DEPARTMENT OF AGRICULTURE

Forest Service

Jarbidge Canyon Analysis; Humboldt-Toiyabe National Forest, Elko County, Nevada

AGENCY: USDA Forest Service.

ACTION: Notice of intent to prepare an environmental impact statement.

SUMMARY: The U.S. Department of Agriculture, Forest Service will prepare an Environmental Impact Statement to evaluate the environmental effects of several alternatives for road reconstruction and maintenance and potential watershed and aquatic habitat improvement projects in the Canyon of the West Fork of the Jarbidge River. The Forest Service will prepare the EIS in cooperation with the Bureau of Land Management, U.S. Fish and Wildlife Service, U.S. Environmental Protection agency, Elko County Commission, Nevada Division of Wildlife, Nevada Division of Environmental Quality.

DATES: Written comments concerning the scope of the analysis should be received by April 15, 2002, to ensure timely consideration.

ADDRESSES: Send written comments to: Jarbidge EIS Team, Humboldt-Toiyabe National Forest, 2035 Last Chance Road, Elko, NV 89801.

FOR FURTHER INFORMATION CONTACT: Direct questions about the project and the preparation of the EIS to Jim Winfrey, Project Team Leader, Humboldt-Toiyabe National Forest, P.O. Box 539, Ely, NV 89301. Telephone: 775-289-3031.

SUPPLEMENTARY INFORMATION:

Background

Under the settlement agreement in United States v. John Carpenter et al. The Forest Service agreed not to contest Elko County's claim that it has a right of way for the South Canyon Road. In exchange, Elko County agreed no to do any roadwork on the South Canyon Road without Forest Service authorization. In addition, Elko County proposed several road and watershed improvement projects to protect and enhance the west fork of the Jarbridge River. The Forest Service agreed to complete any necessary analysis under NEPA and ESA to authorize proposed work by Elko County.

The Forest Service has received no specific proposals from Elko County. However, the Forest Service believes that is it is important to begin analyzing alternatives for road reconstruction and watershed improvements so they can be implemented as soon as practicable. Elko County will be invited to participate as a cooperating agency and can submit a proposal and it will be included in this analysis.

The proposed projects are located between the Idaho/Nevada Stateline and south to the Upper Fox Creek Bridge on the Jarbidge River. The approximate length of the road in the project area is 11 miles. By combining the analysis of the proposed projects along the length of the river the Forest will be better positioned to address cumulative effects of these projects on the river environment. This project area was defined in the Settlement Agreement. Within the project area there are opportunities for improvements to the terrestrial and aquatic environment that will be addressed.

Preliminary internal scoping and comments received in two earlier analyses have identified two issues, which will be addressed in the analysis process. The following list of issues is not intended to be all-inclusive: (1) The presence of bull trout that are federally listed as threatened. (2) The location of most of the proposed work within the flood plain of the river. These issues, and others identified during the scoping process will be used to develop alternatives to the proposed action. In addition, the No Action alternative will be considered in the analysis.

Purpose and Need for Action

The purpose of and need for action is to improve water quality and aquatic habitat while preserving and improving access along the road. This environmental document will disclose the environmental effects of the projects considered for implementation.

Proposed Action

To implement a set of proposed projects designed to improve the environment of the Jarbidge River Watershed. These projects are primarily focused on reconstructing portions of the road in the canyon bottom to reduce the direct input of sediment into the river from the road, to increase shade along the river and increase woody debris. The proposed action will be to authorize Elko County, where necessary, and allow the Forest Service to proceed with implementation of these projects.

Decision To Be Made and Responsible Official

The Responsible official will decide how Elko County may be authorized to reconstruct the South Canyon Road; and determine which road and watershed improvement projects to implement in a manner that adequately protects the surrounding land and aquatic resources

The Forest Service is the lead agency for this project and Robert L. Vaught; Forest Supervisor is the responsible official. Applicable laws, Forest Service regulations and the Humboldt National Forest Land and Resource Management Plan (1986 as amended) will be taken into account throughout the analysis.

Scoping Process

As part of the scoping process, the Forest Service is seeking information and comments from Federal, State, County and local agencies and other individuals or organizations that may be interested in or affected by the proposed actions. Scoping meetings will be held between 5 pm and 7 pm at the Forest service offices in Elko NV, March 18; Twin Falls ID, March 19; Boise ID, March 20; and Reno NV, March 21. This input will be used in preparation of the draft EIS and final EIS. The Scoping process will last 45 days from the publication of this NOI in the Federal Register.

Coordination With Other Agencies

Several government agencies will be invited to participate in this project as cooperating or participating agencies. These agencies include, but are not limited to, Bureau of Land Management, DOI U.S. Fish and Wildlife Service, U.S. Environmental Protection Agency, Nevada Division of Environmental Protection, Nevada Division of Wildlife, and Elko County. Participation by Elko County will be required in the implementation of these projects.

Commenting

The Draft EIS is expected to be filed with the U.S. Environmental Protection Agency (EPA) and be available for review in July 2002. At that time, EPA will publish a Notice of Availability of the Draft EIS in the Federal Register. The comment period of the Draft EIS will be at least 45 days from the date the EPA's Notice of Availability appears in the Federal Register.

The Forest Service believes, at this early stage, it is important to give reviewers notice of several court rulings related to public participation in the environmental review process. First, reviewers of the draft EIS must structure their participation in the environmental review of the proposal so that it is meaningful and alerts an agency to the reviewer's position and contentions. Vermont Yankee Nuclear Power Corp. v. NRDC, 435 U.S. 519, 553 (1978). Also, environmental objections that could be raised at the draft environmental impact stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final EIS. To assist the Forest Service in identifying and considering issues and concerns on the proposed action, comments on the draft EIS should be as specific as possible. It is also helpful if comments refer to specific pages or chapters of the draft EIS. Comments may also address the adequacy of the draft EIS or the merits of the alternatives formulated or discussed in the statement. Reviewers may wish to refer to the Council on Environmental Quality Regulations for implementing the procedural provisions of the National Environmental Policy Act at 40 CFR 1503.3 in addressing these points.

Robert L. Vaught,
Forest Supervisor.

[FR Doc. 02-5277 Filed 3-5-02; 8:45 am]

BILLING CODE 3410-11-M